DEPARTMENT OF COMMERCE

National Oceanic and Atmospheric Administration

RIN: 0648-XR24

North Pacific Fishery Management Council; Public Meeting

AGENCY: National Marine Fisheries Service (NMFS), National Oceanic and Atmospheric Administration (NOAA), Commerce.

ACTION: Notice of a public meeting.

SUMMARY: The North Pacific Fishery Management Council's (Council) Pacific Northwest Crab Industry Advisory Committee (PNCIAC) will meet in Seattle, WA. The meeting is open to the public.

DATES: The meeting will be held on Friday September 18, 2009, from 9 a.m. to 5 p.m.

ADDRESSES: The meeting will be held at the Leif Erickson Lodge, 2245 NW 57th, Seattle, WA, 98107.

Council address: North Pacific Fishery Management Council, 605 W. 4th Avenue, Suite 306, Anchorage, AK 99501-2252.

FOR FURTHER INFORMATION CONTACT: Dr. Diana Stram, Council Staff, telephone: (907) 271-2809 or Steve Minor, (360) 440-4737.

SUPPLEMENTARY INFORMATION: The Committee will review the (1) the Economic Data Review revision process, in the form of a work session with AFSC staff including reports from the CV, CP and FP/SP work groups and (b) a presentation by the RAM Division on the soon to be implemented on-line transfer system.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: August 27, 2009.
Tracey L. Thompson,
Acting Director, Office of Sustainable Fisheries, National Marine Fisheries Service.

[FR Doc. E9-21010 Filed 8-31-09; 8:45 am]

BILLING CODE 3510-22-S